DEPARTMENT OF ENERGY

Proposed Subsequent Arrangement

AGENCY: Office of Nonproliferation and International Security, Department of Energy.

ACTION: Proposed subsequent arrangement.

SUMMARY: This notice is being issued under the authority of section 131.a. of the Atomic

Energy Act of 1954, as amended. The Department is providing notice of a proposed subsequent arrangement under the Agreement for Cooperation Between the Government of the United States of America and the Government of Japan Concerning Peaceful Uses of Nuclear Energy and the Agreement for Cooperation Between the United States of America and the Republic of Kazakhstan Concerning Peaceful Uses of Nuclear Energy.

DATES: This subsequent arrangement will take effect no sooner than February 25, 2014.

FOR FURTHER INFORMATION CONTACT: Ms. Katie Strangis, Office of Nonproliferation and International Security, National Nuclear Security Administration, Department of Energy. Telephone: 202-586-8623 or email: Katie.Strangis@nnsa.doe.gov.

SUPPLEMENTARY INFORMATION: This subsequent arrangement is an amendment to the existing subsequent arrangement that was published in the Federal Register on June 13, 2012 (77 FR 35366) and went into effect in June 2012. The subsequent arrangement currently authorizes the retransfer of 6,672,212 g of U.S.-origin enriched uranium fuel fabrications scrap, containing 233,977 g of the isotope U-235 (less than five percent enrichment), from Nuclear Fuel Industries, Ltd. in Minato-Ku, Tokyo, Japan, to Ulba Metallurgical Plant in Ust-Kamengorsk, Kazakhstan. The purpose of the amendment is to increase the cumulative total authorized for retransfer to 6,734,183 g of U.S.-origin enriched uranium fuel fabrications scrap, containing 238,582 g of the isotope U-235 (less than five percent enrichment). Subject to the existing subsequent arrangement, Nuclear Fuel Industries, Ltd. has already shipped 2,910,869 g of the specified material to Ulba Metallurgical Plant. The remaining 3,823,314 g of enriched uranium, which is currently located at Nuclear Fuels Industries, Ltd. in Japan, will be transferred to Ulba Metallurgical Plant for the purpose of recovering uranium from fuel fabrication scrap for return to Japan where it will be fabricated into fuel pellets to be used by Kansai Electric Power Co., in Osaka, Japan. The material was originally obtained by Nuclear Fuel Industries, Ltd. from nuclear fuel manufacturers in the United States pursuant to several Nuclear Regulatory Commission licenses.

In accordance with section 131a.of the Atomic Energy Act of 1954, as amended, it has been determined that this subsequent arrangement concerning the retransfer of nuclear material of United States origin will not be inimical to the common defense and security of the United States of America.

Dated: January 15, 2014.
For the Department of Energy.
Anne M. Harrington,
Deputy Administrator, Defense Nuclear Nonproliferation.

[FR Doc. 2014-02814 Filed 2-7-14; 8:45 am]

BILLING CODE 6450-01-P